DEPARTMENT OF ENERGY

National Energy Technology Laboratory; Notice of Availability of a Financial Assistance Solicitation

AGENCY: National Energy Technology Laboratory, Department of Energy (DOE).

ACTION: Notice of availability of a financial assistance solicitation.

SUMMARY: Notice is hereby given of the intent to issue Financial Assistance Solicitation No. DE-PS26-02NT41416 entitled Advanced University Reciprocating Engine Program. The Department of Energy, National Energy Technology Laboratory, is seeking applications on behalf of the Office of Power Technologies in DOE's Office of Energy Efficiency and Renewable Energy, for support of projects that are consistent with the goals of the Advanced Natural Gas Reciprocating Engine Program. This solicitation is restricted to applications from only United States (US) universities and colleges for research activities that will make a significant impact on achieving program goals. In order to attain these goals, innovative and novel concepts need to be created and current obstacles need to be overcome.

DATES: The solicitation will be available on the “Industry Interactive Procurement System” (IIPS) webpage located at http://e-center.doe.gov on or about February 15, 2002. Applicants can obtain access to the solicitation from the address above or through DOE/NETL's Web site at http://www.netl.doe.gov/business. All requests for technical explanation or interpretation shall be submitted through IIPS and must be received not later than 5 p.m. Eastern time on March 17, 2002. The Government reserves the right not to respond to technical questions submitted after this date.

FOR FURTHER INFORMATION CONTACT: Debra A. Duncan, MS 921-107, U.S. Department of Energy, National Energy Technology Laboratory, PO Box 10940, 626 Cochrans Mill Road, Pittsburgh, PA 15236-0940, E-mail Address: duncan@netl.doe.gov, Telephone Number: 412-386-5700.

SUPPLEMENTARY INFORMATION: The DOE, supports the development of promising advanced power technologies that will improve energy efficiency, meet or exceed emissions requirements, enhance durability, and lower the costs of installation and operation. The DOE is encouraging greater focus on a portfolio of advanced distributed energy systems. Current technology development efforts include industrial turbines, microturbines, reciprocating engines, and fuel cell technologies for use in industrial, commercial, institutional and residential applications. This solicitation focuses on the development of technologies that will enhance the performance of advanced natural gas reciprocating engines. This solicitation is restricted to US colleges, universities, and other institutions of higher education. Previous solicitations have already focused on reciprocating engine research restricted to manufacturers and national laboratories. US manufacturers and suppliers of reciprocating engines and the Federal government are partnering to develop the next generation of stationary natural gas internal combustion engines. These advanced systems will provide significant benefits to the nation and will position domestic engine manufacturers to better compete in what is becoming a more global market with significant opportunities in domestic power generation markets and emerging international markets. The Advanced Natural Gas Reciprocating Engine Program goals are:

1. Energy Efficiency: 50% electrical efficiency. Current spark-ignition natural gas engines range in efficiency from 34-38%. Application of high temperature materials, engine sensors and controls, improved combustion practices, and other advances may be able to attain efficiencies of 50%.

2. Environmental Emissions: NOX target of 0.1 grams per horsepower-hour. Currently, the best domestic emission levels are 1.0 grams per horsepower-hour. In order to reduce NOX emissions by an order of magnitude advances in combustion technology, sensors and controls, and emission reduction systems are critical to minimize environmental impacts.

3. Cost: Operating and maintenance 10% below today's costs for modern engines. Attaining this goal will result in $50 million savings to the nation between 2005-2010.

To achieve the project objectives, the applicant shall succinctly describe the proposed technical approach to solve the emissions challenge for reciprocating engines. Specifically, university research applications are being solicited for development of aftertreatment concepts for natural gas reciprocating engines. The nature of the application in response to this solicitation should be structured for longer term, basic and fundamental research appropriate for university research facilities. However, it is important that university researcher applicants be mindful of the US reciprocating manufacturer's needs. In other words, applications should propose research that has reasonable probability of contributing to long-term (5-7 year) manufacturer product development cycles. The most valuable contribution will be knowledge useful to reciprocating manufactures to decide which path, among many alternatives, that emissions equipment product development should proceed. With considerable input from the Advanced Reciprocating Engines Systems (ARES) manufacturing consortium, DOE/NETL through the Office of Power Technologies Advanced Natural Gas Reciprocating Engine Program, is requesting applications under the topic area “Aftertreatment Concepts for Advanced Natural Gas Reciprocating Engines.”

Background/Application: Catalytic reduction offers a direct path towards reducing natural gas engine NOX emissions with minimal impact on design or program timing. Selective Catalytic Reduction (SCR) catalysts are used today in site-specific areas, but only as required due to their high initial cost, high maintenance cost, and control requirements. Three way catalysts are used more broadly, but are limited in application to smaller (under 500 kilowatt) engines, as manufacturers have integrated lean burn combustion for longer life on higher power ratings. Improvements in catalyst design have been in research stages for many years but have yet to result in a cost effective, simple solution that new engine products can use.

Technical and Commercial Barriers: Catalyst barriers include the presence of oxygen in the exhaust stream from modern lean burn natural gas engines, coupled with relatively low exhaust temperatures that can inhibit catalytic reaction. Material costs, along with expensive closed loop SCR controls, limit commercial attractiveness such that catalysts are often used as a last resort rather than first preference when addressing emissions non-attainment areas. Relatively weak sales and service infrastructure, coupled with a general lack of knowledge, or negative impressions about catalysts, further inhibit catalyst promulgation into the large stationary natural gas engine marketplace.

Technology Breakthrough(s) Needed: An effective catalyst reduction system is required that can reduce lean burn engine NOX emissions from 6 pounds per megawatt hour by at least 90%. Several approaches need to be investigated, including:

1. Closed loop SCR designs, such that first costs are no greater than 10% of package costs, or approximately $50 per kilowatt (electric).

2. Three way catalyst designs, such that these simple designs could be coupled with lean burn engine applications.

3. Catalyst control technology that greatly reduces the cost to measure and control inlet and outlet NOX conditions to and from the catalyst.

4. Basic field measurement technology, such that a technician or regulator can easily connect to and confidently measure NOX output from a gas engine catalyst.

5. NOX adsorbent technology, such that catalyst bed material life is sufficiently long to be economically justified, and that precious metal requirements are greatly reduced or eliminated.

6. Sulfur resistant catalyst technology, such that engines operating with significant sulfur pass-through can be coupled to an effective catalyst bed.

7. Catalysts using CH4 as a supplemental reductant, such that currently available fuels can be used rather than ammonia systems in SCR designs.

8. Durable oxidation catalyst technology, such that methane is reduced by 80+% with a minimal use of precious metal.

These technologies are listed in no particular order, but could each play a major role in reducing NOX emissions from current engines and upcoming advanced natural gas reciprocating engine designs.

Pursuant to 10 CFR 600.6(b) eligibility for award is restricted to US universities and colleges. Only universities, colleges, or university-affiliated research institutes located in the US and its territories, including the Commonwealth of Puerto Rico and the Virgin Islands, may submit applications for consideration under this Program Solicitation. Submissions from university-affiliated research institutes must be made through the university. The award will be with the university and not with the university-affiliated research institute.

DOE anticipates multiple cooperative agreement awards resulting from this solicitation. In accordance with 10 CFR 600.30, the DOE has determined that a minimum cost share of 20% of the total project costs will be required.

Applications must be prepared and submitted in accordance with the instructions and forms contained in the solicitation. Once released, the solicitation will be available for downloading from the IIPS Internet page. At this Internet site you will also be able to register with IIPS, enabling you to submit an application. If you need technical assistance in registering or for any other IIPS function, call the IIPS Help Desk at (800) 683-0751 or e-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by e-mail that the solicitation has been released to the public. Telephone requests, written requests, e-mail requests, or facsimile requests for a copy of the solicitation package will not be accepted and/or honored. Applications must be prepared and submitted in accordance with the instructions and forms contained in the solicitation. The actual solicitation document will allow for requests for explanation and/or interpretation.

Issued in Pittsburgh, PA on February 15, 2002.
Dale A. Siciliano,
Deputy Director, Acquisition and Assistance Division.

[FR Doc. 02-4514 Filed 2-25-02; 8:45 am]

BILLING CODE 6450-01-P